DEPARTMENT OF THE INTERIOR

National Park Service

Notice of Inventory Completion: U.S. Department of the Interior, U.S. Fish and Wildlife Service, Region 7, Anchorage, AK

AGENCY: National Park Service, Interior.

ACTION: Notice.

Notice is here given in accordance with the Native American Graves Protection and Repatriation Act (NAGPRA), 25 U.S.C. 3003, of the completion of an inventory of human remains in the possession of the U.S. Department of the Interior, U.S. Fish and Wildlife Service, Region 7, Anchorage, AK. The human remains were removed from Carlisle Island in the Islands of the Four Mountains area of the Aleutian Islands chain in Alaska.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by U.S. Fish and Wildlife Service, Region 7 professional staff with assistance from the Alaska State Office of History and Archaeology and University of Alaska, Anchorage, in consultation with representatives of the Aleut Corporation and Unangan Repatriation Commission, a non-federally recognized Native Alaskan group.

In 1949, human remains representing a minimum of one individual were removed from Carlisle Island, in the Islands of the Four Mountains area of the Aleutian Islands chain in Alaska, during an expedition by William S. Laughlin, a physical anthropologist. No known individual was identified. No associated funerary objects are present.

There are no radiocarbon dates available for the human remains. All known dated cave burials from the Aleutians are younger than 2,000 years old (Black 1982, pg 24; Black 2003, pg 36; Hayes 2002). The burial context and physical traits of the human remains are consistent with those observed for pre-contact Aleut populations. Human remains and associated grave goods from sites in the Aleutians that were collected by Dr. Laughlin were sent to the University of Connecticut. In 2002, most of the Aleutian Island human remains were sent to The Museum of the Aleutians in Unalaska, AK.

Analysis, including cranio-metric analysis, by the University of Alaska, Anchorage and with the assistance of the Alaska State Office of History and Archaeology, were done on the human remains. Radiocarbon dates were not obtained by the University of Alaska Anchorage or the State Office of History and Archaeology. Skeletal morphology of present-day Aleut populations is similar to that of prehistoric Aleut populations and demonstrates biological affiliation between present-day Aleut groups and prehistoric populations in the Aleutian Islands.

Cultural affiliation between the prehistoric population on Carlisle Island and the Chaluka Corporation and Native Village of Nikolski is demonstrated by recent historical records. In 1741, Russian explorers made contact with the people of the Islands of the Four Mountains. These people and their culture are not well known, but were a distinct variant of the Aleutian culture. In the late 1700s, with Russian assistance, the Umnak Aleuts waged war on the people of the Islands of the Four Mountains. Survivors of the conflict were removed to villages on Umnak Island and absorbed into the population and the population of the Islands of the Four Mountains was “no more” by 1790 (Black 1982, pg 20). Based on scientific studies, aboriginal occupation, historical records, and burial context, it is reasonably believed that the descendants of the people of the Islands of the Four Mountains, including Carlisle Island, are members of the present-day Chaluka Corporation and Native Village of Nikolski, which is represented by the Nikolski IRA Council.

Officials of the U.S. Fish and Wildlife Service, Region 7 have determined that, pursuant to 25 U.S.C. 3001 (9-10), the human remains described above represent the physical remains of one individual of Native American ancestry. Officials of the U.S. Fish and Wildlife Service, Region 7 also have determined that, pursuant to 25 U.S.C. 3001(2), there is a relationship of shared group identity that can be reasonably traced between the Native American human remains and the Chaluka Corporation and Native Village of Nikolski.

Representatives of any other Indian tribe that believes itself to be culturally affiliated with the human remains should contact Debra Corbett, U.S. Fish and Wildlife Service, 1011 East Tudor Road, Anchorage, AK 99503, telephone (907) 786-3399, before November 28, 2008. Repatriation of the human remains to the Chaluka Corporation and Native Village of Nikolski may proceed after that date if no additional claimants come forward.

U.S. Fish and Wildlife Service, Region 7 is responsible for notifying the Chaluka Corporation Native Village of Nikolski, and Nikolski IRA Council that this notice has been published.

Dated: September 30, 2008
Sherry Hutt,
Manager, National NAGPRA Program.

[FR Doc. E8-25764 Filed 10-28-08; 8:45 am]

BILLING CODE 4312-50-S